ENVIRONMENTAL PROTECTION AGENCY

[FRL-8255-2]

Clean Air Act Advisory Committee (CAAAC) Notice of Meeting

AGENCY: Environmental Protection Agency (EPA).

ACTION: Notice of meeting.

SUMMARY: Pursuant to the Federal Advisory Committee Act (Pub. L. 92-463), notice is hereby given that the Clean Air Act Advisory Committee will hold its next open meeting on Thursday, January 11, 2007. The meeting is open to the public to attend and will begin at approximately 8:30 a.m. to 4 p.m. at the DoubleTree Hotel at 300 Army Navy Drive, Arlington, VA 22202. The Subcommittee meetings will be held on January 10, 2007 starting approximately at 9 a.m to 4:30 p.m. at the same location as the full committee. Seating will be available on a first come, first served basis. The Mobile Source Technical Review subcommittee will not meet at this time. The agenda for the full committee meeting will be posted on the CAAAC Web site: http://www.epa.gov/oar/caaac/.

DATES: Clean Air Act Advisory Committee will hold its next open meeting on Thursday, January 11, 2007, from approximately 8:30 a.m. to 4 p.m. Subcommittees will meet on Wednesday, January 10, 2007.

ADDRESSES: CAAAC and its subcommittee meetings will be held at the DoubleTree Hotel at 300 Army Navy Drive, Arlington, VA 22202.

FOR FURTHER INFORMATION CONTACT: Concerning the CAAAC, please contact Pat Childers, Office of Air and Radiation, U.S. EPA (202) 564-1082, FAX (202) 564-1352 or by mail at U.S. EPA, Office of Air and Radiation (Mail code 6102 A), 1200 Pennsylvania Avenue, NW., Washington, DC 20004. For information on the Subcommittee meetings, please contact the following individuals: (1) Permits/NSR/Toxics Integration—Debbie Stackhouse, 919-541-5354; (2) Air Quality Management—Jeff Whitlow, 919-541-5523; and (3) Economic Incentives and Regulatory Innovations—Carey Fitzmaurice, 202-564-1667. Additional Information on these meetings, CAAAC and its Subcommittees can be found on the CAAAC Web site: http://www.epa.gov/oar/caaac/.

Meeting Access: For information on access or services for individuals with disabilities, please contact Mr. Pat Childers at (202) 564-1082 or childers.pat@epa.gov. To request accommodation of a disability, please contact Mr. Childers, preferably at least 10 days prior to the meeting, to give EPA as much time as possible to process your request.

SUPPLEMENTARY INFORMATION: Inspection of Committee Documents: The Committee agenda and any docuemnts prepared for the meeting will be publicly available at the meeting. Thereafter, these documents, together with CAAAC meeting minutes, will be available by contacting the Office of Air and Radiation Docket and requesting information under docket OAR-2004-0075. The Docket office can be reached by telephoning 202-260-7548; FAX 202-260-4400.

Dated: November 8, 2006.
Patrick Childers,
Designated Federal Official for Clean Air Act Advisory Committee.

[FR Doc. E6-21295 Filed 12-13-06; 8:45 am]

BILLING CODE 6560-50-P